NUCLEAR REGULATORY COMMISSION

[Docket No. 40-6940]

Cabot Performance Materials

AGENCY: Nuclear Regulatory Commission.

ACTION: Notice of opportunity for hearing.

SUMMARY: The U. S. Nuclear Regulatory Commission (NRC) has received, by letter dated April 3, 2002, and acknowledged a request from Cabot Performance Materials for the renewal of NRC Source Material License SMB-920 for the Boyertown, Pennsylvania facility. The Commission hereby provides a notice of opportunity for a hearing as part of the proceeding in accordance with the requirements of 10 CFR part 2, subpart L.

FOR FURTHER INFORMATION CONTACT: Ms. Elaine Brummett, Fuel Cycle Facilities Branch, Division of Fuel Cycle Safety and Safeguards, Office of Nuclear Material Safety and Safeguards, U.S. Nuclear Regulatory Commission, Mail Stop T8-A33, Washington, DC 20555-0001. Telephone 301/415-6606.

SUPPLEMENTARY INFORMATION: Cabot Performance Materials is licensed by the U. S. Nuclear Regulatory Commission (NRC) under Source Material License SMB-920 for operations at the Boyertown, Pennsylvania site. All the processes in the plant and most of the radiological procedures have remained unchanged, except for the detailed procedures for monitoring and analyzing radiological conditions, in accordance with the reviews and agreements from the inspectors from Region I office of the U.S. Nuclear Regulatory Commission (NRC) in King of Prussia, Pennsylvania. Also, Cabot Performance Materials has modified the radiation safety programs, in order to strengthen and improve the levels of management, and the employee involvement.

The Commission hereby provides notice of an opportunity for a hearing on an application for license renewal, which is a proceeding falling within the scope of 10 CFR part 2, subpart L, “Informal Hearing Procedures for Adjudications in Materials and Operators Licensing Proceedings,” of the Commission's Rules of Practice for Domestic Licensing Proceedings and Issuance of Orders. Pursuant to § 2.1205(a), any person whose interest may be affected by this proceeding may file a request for a hearing. In accordance with § 2.1205(d), a request for a hearing must be filed within thirty (30) days from the date of publication of this Federal Register notice. The request for a hearing must be filed with the Office of the Secretary either:

(1) By delivery to the Rulemakings and Adjudications Staff of the Office of the Secretary at One White Flint North, 11555 Rockville Pike, Rockville, MD 20852; or

(2) By mail or telegram addressed to the Secretary, U.S. Nuclear Regulatory Commission, Washington, DC 20555-0001, Attention: Rulemakings and Adjudications Staff.

In accordance with 10 CFR 2.1205(f), each request for a hearing must also be served, by delivering it personally or by mail to:

(1) The applicant, Cabot Performance Materials, County Line, P.O. Box 1628, Boyertown, PA 19512-1608;

(2) The NRC staff, by delivery to the General Counsel, One White Flint North, 11555 Rockville Pike, Rockville, MD 20852; or

(3) By mail addressed to the General Counsel, U.S. Nuclear Regulatory Commission, Washington, DC 20555-0001.

In addition to meeting other applicable requirements of 10 CFR Part 2 of the Commission's regulations, a request for a hearing filed by a person other than an applicant must describe in detail:

(1) The interest of the requestor in the proceeding;

(2) How that interest may be affected by the results of the proceeding, including the reasons why the requestor should be permitted a hearing, with particular reference to the factors set out in § 2.1205(h);

(3) The requestor's areas of concern about the licensing activity that is the subject matter of the proceeding; and

(4) The circumstances establishing that the request for a hearing is timely in accordance with § 2.1205(d).

Any hearing that is requested and granted will be held in accordance with the Commission's “Informal Hearing Procedures for Adjudications in Materials and Operator Licensing Proceedings” in 10 CFR part 2, subpart L.

Dated at Rockville, Maryland, this 24th day of May, 2002.
For the Nuclear Regulatory Commission.
Daniel M. Gillen,
Chief, Fuel Cycle Facilities Branch, Division of Fuel Cycle Safety and Safeguards, Office of Nuclear Material Safety and Safeguards.

[FR Doc. 02-14062 Filed 6-4-02; 8:45 am]

BILLING CODE 7590-01-P